DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Public Employment & Payroll Forms.

OMB Control Number: 0607-0452.

Form Number(s): E-1, E-2, E-3, E-4, E-5, E-6, E-7, E-9.

Type of Request: Extension of a currently approved collection.

Burden Hours: 47,903.

Number of Respondents: 58,572.

Average Hours per Response: 49 minutes.

Needs and Uses: This information collection request covers the questionnaires needed to conduct the public employment program for the 2012 Census of Governments: Employment and the 2013 Annual Survey of Public Employment & Payroll.

The type of employment and payroll data collected by the public employment & payroll program in the 2012 Census of Governments: Employment and the 2013 Annual Survey of Public Employment & Payroll are identical to the data collected in recent annual surveys. The 2012 Census of Governments: Employment will collect data for all state and local governments in the 50 states and the District of Columbia by type of government and government function. The 2013 sample supports estimates of total local government employment and payrolls by state by government function.

No changes were made to the form content as currently approved. However; formatting changes were made to the forms to facilitate data capture using current technology, Integrated Computer Assisted Data Entry (iCADE), and to clarify wording and form flow with respondents such as integrating the instruction in bullet form into the questions. These changes were cognitively tested.

Statistics compiled from data gathered using these forms are used in several important Federal government programs. Economists at the Bureau of Economic Analysis (BEA) use the statistics for developing the National Income and Product Accounts. BEA also uses the Census of Governments and the Annual Survey of Public Employment & Payroll to derive state-level estimates of the employment and wages and salaries of students and their spouses who are employed by public institutions of higher education in which the students are enrolled. There is no other national or state source for information on student workers at state institutions of higher education.

The employment data are used for two other data collection efforts currently conducted by the Census Bureau. The Medical Expenditures Panel Survey (MEPS) collects data for the Department of Health and Human Services (HHS) on health plans offered to state and local government employees. The MEPS sample of public employees is drawn from the Census of Governments: Employment component universe and employment data from the survey are used in statistical methods for creating national estimates on health plans. The Criminal Justice Employment and Expenditure program (CJEE), sponsored by the Bureau of Justice Statistics (BJS), uses employment data to provide employee and payroll statistics on police protection and correctional activities.

State and local government officials use these employment data to analyze and assess individual government labor force and wage levels. Both management and labor consult these data during wage and salary negotiations.

Public interest groups of many types produce analyses of public sector activities using these data. User organizations representing state and local government include the Council of State Governments, National Conference of State Legislatures, Government Research Association, U.S. Conference of Mayors, National Association of Counties, National League of Cities, and the International City/County Management Association. A third category of users, having a more specific focus on government activities, includes organizations such as the Citizens Research Council of Michigan and the National Sheriffs Association.

A variety of other organizations and individuals make use of these data. Notable research organizations include the Manhattan Institute for Policy Research, the Brookings Institution, and the Rockefeller Institute of Government. The instructors, researchers, and students in schools of public administration, political science, management, and industrial relations as well as other members of the public also use employment data.

Affected Public: State, local or Tribal government.

Frequency: Annually.

Respondent's Obligation: Voluntary.

Legal Authority: Title 13, Section 161, of the United States Code requires the Secretary of Commerce to conduct a census of governments every fifth year. Title 13, Section 182 of the United States Code allows the Secretary to conduct annual surveys in other years.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW, Washington, DC 20230 (or via the Internet at jjessup@doc.gov).

Written comments and recommendations for the proposed information collection should be sent within 30 days of publication of this notice to Brian Harris-Kojetin, OMB Desk Officer either by fax (202) 395-7245) or email (bharrisk@omb.eop.gov).

Dated: January 9, 2012.
Glenna Mickelson,
Management Analyst, Office of the Chief Information Officer.

[FR Doc. 2012-514 Filed 1-12-12; 8:45 am]

BILLING CODE 3510-07-P